OFFICE OF PERSONNEL MANAGEMENT

5 CFR Part 532

RIN 3206-AN50

Prevailing Rate Systems; Definition of Brown County, Wisconsin, and Forsyth and Mecklenburg Counties, North Carolina, to Nonappropriated Fund Federal Wage System Wage Areas

AGENCY: U.S. Office of Personnel Management.

ACTION: Proposed rule with request for comments.

SUMMARY: This rule proposes to amend the geographic boundaries of three nonappropriated fund (NAF) Federal Wage System (FWS) wage areas. Based on consensus recommendations of the Federal Prevailing Rate Advisory Committee (FPRAC), the U.S. Office of Personnel Management (OPM) would define Brown County, Wisconsin, as an area of application county to the Lake, Illinois, NAF FWS wage area; Forsyth County, North Carolina, as an area of application to the Cumberland, NC, NAF FWS wage area; and Mecklenburg County, NC, as an area of application to the Richland, South Carolina, NAF FWS wage area. These changes are necessary because there are NAF FWS employees working in these three counties, and the counties are not currently defined in regulation to NAF wage areas.

DATES: We must receive comments on or before June 14, 2017.

ADDRESSES: You may submit comments, identified by RIN 3206-AN50, using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule that would make changes to three NAF FWS wage area definitions. The Department of Veterans Affairs notified OPM that the Veterans Canteen Service (VCS) now employs NAF FWS employees in Brown County, WI, and Forsyth and Mecklenburg Counties, NC.

Under § 532.219 of title 5, Code of Federal Regulations (CFR), each NAF wage area “shall consist of one or more survey areas, along with nonsurvey areas, if any, having nonappropriated fund employees.” Brown, Forsyth, and Mecklenburg Counties do not meet the regulatory criteria under 5 CFR 532.219 to be established as separate NAF wage areas; however, nonsurvey counties may be combined with a survey area to form a wage area. Section 532.219 lists the regulatory criteria that OPM considers when defining FWS wage area boundaries:

(i) Proximity of largest facilities activity in each county;

(ii) Transportation facilities and commuting patterns; and

(iii) Similarities of the counties in—

(A) Overall population;

(B) Private employment in major industry categories; and

(C) Kinds and sizes of private industrial establishments.

OPM recently completed reviews of the definitions of Brown, Forsyth, and Mecklenburg Counties and is proposing the changes described below. FPRAC, the national labor-management committee responsible for advising OPM on matters concerning the pay of FWS employees, recommended these changes by consensus. These changes would apply on the first day of the first applicable pay period beginning on or after 30 days following publication of the final regulations.

Brown County, WI

Brown County would be defined as an area of application county to the Lake, IL, NAF FWS wage area. The closest NAF wage area to Brown County is the Lake wage area. The employment location of the new NAF FWS employees in Brown County (VCS #395) is located approximately 170 miles from Naval Station Great Lakes, the Lake wage area's host activity.

With the definition of Brown County to the Lake NAF wage area, the Lake wage area would consist of one survey county, Lake County, IL, and nine area of application counties: Cook, Rock Island, and Vermilion Counties, IL; Johnson County, IA; Dickinson and Marquette Counties, MI; and Brown, Dane, and Milwaukee Counties, WI.

Forsyth County, NC

Forsyth County would be defined as an area of application county to the Cumberland, NC, NAF FWS wage area. The closest NAF wage area to Forsyth County is the Cumberland wage area. The employment location of the new NAF FWS employees in Forsyth County (VCS #359) is located approximately 103 miles from Fort Bragg, the Cumberland wage area's host activity.

With the definition of Forsyth County to the Cumberland NAF wage area, the Cumberland wage area would consist of one survey county, Cumberland County, NC, and three area of application counties: Durham, Forsyth, and Rowan Counties, NC.

Mecklenburg County, NC

Mecklenburg County would be defined as an area of application county to the Richland, SC, NAF FWS wage area. The closest NAF wage area to Mecklenburg County is the Richland wage area. The employment location of the new NAF FWS employees in Mecklenburg County (VCS #959) is located approximately 91 miles from Fort Jackson, the Richland wage area's host activity.

With the definition of Mecklenburg County to the Richland NAF wage area, the Richland wage area would consist of one survey county, Richland County, SC, and four area of application counties: Buncombe and Mecklenburg Counties, NC; Sumter County, SC; and Washington County, TN.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Kathleen M. McGettigan,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. Appendix D to Subpart B is amended by revising the wage area listing for the Lake, IL; Cumberland, NC; and Richland, SC, wage areas to read as follows:

Appendix D to Subpart B of Part 532—Nonappropriated Fund Wage and Survey Areas

* * * * *
ILLINOIS
Lake
Survey Area
Illinois:
Lake
Area of Application. Survey area plus:
Illinois:
Cook
Rock Island
Vermilion
Iowa:
Johnson
Michigan:
Dickinson
Marquette
Wisconsin:
Brown
Dane
Milwaukee
* * * * *
NORTH CAROLINA
* * * * *
Cumberland
Survey Area
North Carolina:
Cumberland
Area of Application. Survey area plus:
North Carolina:
Durham
Forsyth
Rowan
* * * * *
SOUTH CAROLINA
* * * * *
Richland
Survey Area
South Carolina:
Richland
Area of Application. Survey area plus:
North Carolina:
Buncombe
Mecklenburg
South Carolina
Sumter
Tennessee
Washington
* * * * *

[FR Doc. 2017-09731 Filed 5-12-17; 8:45 am]

BILLING CODE 6325-39-P